DEPARTMENT OF TRANSPORTATION

Federal Aviation Administration

14 CFR Part 97

[Docket No. 30502 Amdt. No. 3174]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 13, 2006. The compliance date for each SIAP and/or Weather Takeoff Minimums is specified in the amendatory provisions.

The incorporation by reference of certain publications listed in the regulations is approved by the Director of the Federal Register as of July 13, 2006.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on June 30, 2006.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 03 August 2006

St. Paul Island, AK, St. Paul Island, NDB-A, Amdt 1, CANCELLED

Long Beach, CA, Long Beach/Daugherty Field, RNAV (RNP) Y RWY 30, Orig

Oakland, CA, Metropolitan Oakland Intl, RNAV (GPS) RWY 27L, Amdt 1

Riverside, CA, Riverside Muni, RNAV (GPS) RWY 27, Orig

Tracy, CA, Tracy Muni, RNAV (GPS) RWY 12, Orig

Tracy, CA, Tracy Muni, RNAV (GPS) RWY 30, Orig

Tracy, CA, Tracy Muni, GPS RWY 30, Orig, CANCELLED

Danbury, CT, Danbury Muni, VOR/DME RNAV RWY 8, Amdt 5, CANCELLED

Danbury, CT, Danbury Muni, VOR/DME RNAV OR GPS RWY 26, Amdt 6, CANCELLED

Carrollton, GA, West Georgia Regional-OV Gray Field, NDB RWY 35, Amdt 3, CANCELLED

Charles City, IA, Charles City Muni, NDB-A, Orig A, CANCELLED

Storm Lake, IA, Storm Lake Muni, RNAV (GPS) RWY 35, Amdt 1

Lewiston, ID, Lewiston-Nez Perce County, RNAV (GPS) RWY 8, Orig

Lewiston, ID, Lewiston-Nez Perce County, RNAV (GPS) RWY 11, Orig

Indianapolis, IN, Indianapolis Executive, VOR/DME RNAV RWY 18, Amdt 6, CANCELLED

Indianapolis, IN, Indianapolis Executive, NDB RWY 36, Amdt 4, CANCELLED

Parsons, KS, Tri-City, NDB RWY 17, Amdt 9A, CANCELLED

Topeka, KS, Forbes Field, VOR/DME RNAV RWY 13, Amdt 4A, CANCELLED

Wichita, KS, Wichita Mid Continent, VOR/DME RNAV RWY 1L, Amdt 1C, CANCELLED

Wichita, KS, Wichita Mid Continent, VOR/DME RNAV RWY 19R, Amdt 1B, CANCELLED

Somerset, KY, Somerset-Pulaski County-J.T. Wilson Field, RNAV (GPS) RWY 5, Amdt 1

Somerset, KY, Somerset-Pulaski County-J.T. Wilson Field, RNAV (GPS) RWY 23, Amdt 1

Bedford, MA, Laurence G. Hanscom Field, NDB RWY 11, Amdt 21B, CANCELLED

Provincetown, MA, Provincetown Muni, NDB RWY 7, Amdt 1A, CANCELLED

Eveleth, MN, Eveleth-Virginia Muni, VOR/DME RNAV RWY 27, Amdt 3, CANCELLED

Rochester, MN, Rochester Intl, ILS OR LOC RWY 13, Amdt 7

Rochester, MN, Rochester Intl, RNAV (GPS) RWY 13, Amdt 1

Ava, MO, Ava Bill Martin Memorial, VOR/DME RNAV RWY 31, Amdt 1A, CANCELLED

Jackson, MS, Jackson-Evers Intl, RNAV (GPS) RWY 34L, Amdt 1

Lincoln, NE, Lincoln, NDB RWY 36, Amdt 8D, CANCELLED

Trenton, NJ, Trenton Mercer, VOR/DME RNAV RWY 16, Amdt 4, CANCELLED

Trenton, NJ, Trenton Mercer, VOR/DME RNAV RWY 34, Amdt 5A, CANCELLED

Silver City, NM, Grant County, RNAV (GPS) RWY 8, Orig

Silver City, NM, Grant County, RNAV (GPS) RWY 26, Orig

Silver City, NM, Grant County, GPS RWY 26, Orig-A, CANCELLED

McAlester, OK, McAlester Regional, RNAV (GPS) RWY 1, Orig

McAlester, OK, McAlester Regional, RNAV (GPS) RWY 19, Orig

McAlester, OK, McAlester Regional, GPS RWY 1, Orig, CANCELLED

McAlester, OK, McAlester Regional, GPS RWY 19, Orig, CANCELLED

McAlester, OK, McAlester Regional, Takeoff Minimums and Textual DP, Orig

Franklin, PA, Venango Regional, VOR RWY 21, Amdt 8

Franklin, PA, Venango Regional, ILS OR LOC RWY 21, Amdt 6

Franklin, PA, Venango Regional, RNAV (GPS) RWY 21, Amdt 1

Aiken, SC, Aiken Muni, RNAV (GPS) RWY 7, Orig

Aiken, SC, Aiken Muni, RNAV (GPS) RWY 25, Orig

Aiken, SC, Aiken Muni, NDB RWY 25, Amdt 10

Aiken, SC, Aiken Muni, VOR/DME-A, Amdt 1

Aiken, SC, Aiken Muni, GPS RWY 6, Orig-A, CANCELLED

Aiken, SC, Aiken Muni, GPS RWY 24, Orig-A, CANCELLED

Aiken, SC, Aiken Muni, Takeoff Minimums and Textual DP, Orig

Dallas-Fort Worth, TX, Dallas-Fort Worth International, LOC/DME RWY 17C, Orig CANCELLED

Dallas-Fort Worth, TX, Dallas-Fort Worth International, ILS OR LOC RWY 17L, ILS RWY 17L (CAT II), ILS RWY 17L (CAT III), Amdt 4

Dallas-Fort Worth, TX, Dallas-Fort Worth International, RNAV (GPS) RWY 17L, Amdt 2

Dallas-Fort Worth, TX, Dallas-Fort Worth International, RNAV (GPS) RWY 35R, Amdt 1

New Braunfels, TX, New Braunfels Muni, RNAV (GPS) RWY 35, Amdt 1

New Braunfels, TX, New Braunfels Muni, Takeoff Minimums and Textual DP, Orig

* * * Effective 28 September 2006

Huntsville, AL, Madison County Executive, RNAV (GPS) RWY 18, Amdt 1

Tampa, FL, Tampa Intl, RNAV (RNP) Y RWY 18L, Orig

Tampa, FL, Tampa Intl, RNAV (GPS) Z RWY 18L, Amdt 1

Clarksville, TN, Outlaw Field, RNAV (GPS) RWY 35, Orig

Clarksville, TN, Outlaw Field, NDB OR GPS RWY 35, Amdt 5E, CANCELLED

Clarksville, TN, Outlaw Field, Takeoff Minimums and Textual DP, Amdt 2

[FR Doc. 06-6144 Filed 7-12-06; 8:45 am]

BILLING CODE 4910-13-P